DEPARTMENT OF HOUSING AND URBAN DEVELOPMENT

[Docket No. 5378-N-02]

Notice of Proposed Information Collection, Comment Request; Economic Opportunities for Low- and Very Low-Income Persons

AGENCY: Office of the Assistant Secretary for Fair Housing and Equal Opportunity, HUD.

ACTION: Notice.

SUMMARY: The proposed information collection requirement concerning the Section 3 program will be submitted to the Office of Management and Budget (OMB) for review, as required by the Paperwork Reduction Act. The Department is soliciting public comments on the subject proposal.

DATES: Comments Due Date: August 23, 2010.

ADDRESSES: Interested persons are invited to submit comments regarding this proposal. Comments should refer to the proposal by name and/or OMB Control Number and should be sent to: Leroy McKinney, Departmental Paperwork Reduction Act Compliance Officer, Office of the Chief Information Officer, Department of Housing and Urban Development, 451 7th Street, SW., Room 4178, Washington, DC 20410. Telephone number (202) 402-5564.

FOR FURTHER INFORMATION CONTACT: Staci Gilliam, Director, Economic Opportunity Division, Office of Fair Housing and Equal Opportunity, Department of Housing and Urban Development, 451 7th Street, SW., Room 5234, Washington, DC 20410, telephone (202) 402-3468. (This is not a toll-free number.) Hearing or speech-impaired individuals may access this number TTY by calling the toll-free Federal Information Relay Service at 1-800-877-8399.

SUPPLEMENTARY INFORMATION: The Department is submitting the proposed information collection to OMB for review, as required by the Paperwork Reduction Act of 1995 (44 U.S.C. Chapter 34, as amended).

This Notice is soliciting comments from members of the public and affected agencies concerning the proposed collection of information to: (1) Enhance the Section 3 Program, (2) Enhance the quality, utility, and clarity of the information to be collected; and (3) Minimize the burden of the collection of information on those who respond; including the use of appropriate automated collection techniques or other forms of information technology, e.g., permitting electronic submission of responses.

Title of Proposal: Economic Opportunity for Low-and Very Low-Income Persons.

Office: Fair Housing and Equal Opportunity.

OMB Control Number: 2529-0043.

Description of the need for the information and proposed use:

A. The Section 3 Summary Report (Revised HUD form 60002)

The information will be used by the Department to monitor program recipients' compliance with the requirements of Section 3 of the Housing and Urban Development Act of 1968. HUD Headquarters will use the information to assess the results of the Department's efforts to meet the statutory objectives of Section 3. The data collected will be used by recipients as a self-monitoring tool. If the information is used, it will be used to prepare the mandatory reports to Congress assessing the effectiveness of Section 3.

B. The Section 3 Summary Report (HUD form 60002B)

The information on this form will be used by grantees to list additional properties, activities or contracts involving covered funds expended during the reporting period.

C. Complaint Register HUD Form 958 (Revised)

The information will be used in order to respond to and investigate complaints filed alleging noncompliance with Section 3. HUD staff will use this form to respond to investigate complaints filed.

Agency form numbers, if applicable: Form HUD 60002 Revised, HUD 958 Revised, and HUD form 60002-B.

Members of affected public: State and local governments agencies, public and private non-profit organizations, low- and very low-income residents, Public Housing Authorities or other public entities.

Estimation of the total numbers of hours needed to prepare the information collection including number of respondents, frequency of response, and hours of response: On an annual basis approximately 5,500 respondents (HUD recipients) will submit for HUD 60002 to HUD. It is estimated that four hours per annual reporting period will be required of the recipients to prepare the Section 3 report for a total of 22,000 hours.

Status of the proposed information collection: Reinstatement of a currently approved collection of information from HUD recipients.

Authority: The Paperwork Reduction Act of 1995, 44 U.S.C. Chapter 35, as amended.

Dated: June 16, 2010.
Staci Gilliam Hampton,
Director, Economic Opportunity Division.

[FR Doc. 2010-15096 Filed 6-22-10; 8:45 am]

BILLING CODE 4210-67-P